DEPARTMENT OF COMMERCE

International Trade Administration

[C-525-002, C-351-855, C-533-896, C-489-840]

Common Alloy Aluminum Sheet From Bahrain, Brazil, India, and the Republic of Turkey: Postponement of Preliminary Determinations in the Countervailing Duty Investigations

AGENCY: Enforcement and Compliance, International Trade Administration, Department of Commerce.

DATES: Applicable May 19, 2020.

FOR FURTHER INFORMATION CONTACT: Thomas Schauer at (202) 482-0410 (Bahrain), Jonathan Hall-Eastman at (202) 482-1468 (Brazil), Benito Ballesteros at (202) 482-7425 (India), or Gene Calvert at (202) 482-3586 (Republic of Turkey (Turkey)), AD/CVD Operations, Enforcement and Compliance, International Trade Administration, U.S. Department of Commerce, 1401 Constitution Avenue NW, Washington, DC 20230.

SUPPLEMENTARY INFORMATION:

Background

On March 30, 2020, the Department of Commerce (Commerce) initiated countervailing duty (CVD) investigations of imports of common alloy aluminum sheet from Bahrain, Brazil, India, and Turkey.¹ Currently, the preliminary determinations are due no later than June 3, 2020.

¹ See Common Alloy Aluminum Sheet from Bahrain, Brazil, India, and the Republic of Turkey: Initiation of Countervailing Duty Investigations, 85 FR 19449 (April 7, 2020).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On May 6, 2020, the petitioner in these investigations ³ submitted a timely request that Commerce postpone the preliminary CVD determinations.⁴ According to the petitioner, additional time is necessary to allow Commerce to “analyze fully the questionnaire responses, request any necessary clarifications, and determine the extent to which countervailable subsidies have benefited the respondents in the preliminary phase of these proceedings.” ⁵ Consistent with 19 CFR 351.205(e), the petitioner stated the reasons for its request, and Commerce finds no compelling reason to deny the request. Therefore, in accordance with section 703(c)(1)(A) of the Act, Commerce is postponing the deadline for the preliminary determinations to no later than 130 days after the date on which these investigations were initiated, i.e., August 7, 2020. Pursuant to section 705(a)(1) of the Act and 19 CFR 351.210(b)(1), the deadline for the final determinations of these investigations will continue to be 75 days after the date of the preliminary determinations, unless postponed at a later date.

³ The petitioner is the Aluminum Association Common Alloy Aluminum Sheet Working Group.

⁴ See Petitioner's Letter, “Countervailing Duty Investigations Concerning Common Alloy Aluminum Sheet From Bahrain, Brazil, India, and the Republic of Turkey—Petitioners' Request to Postpone Preliminary Determinations,” dated May 6, 2019.

⁵ Id. at 2.

Notification to Interested Parties

This notice is issued and published pursuant to section 703(c)(2) of the Act and 19 CFR 351.205(f)(1).

Dated: May 13, 2020.
Jeffrey I. Kessler,
Assistant Secretary for Enforcement and Compliance.

[FR Doc. 2020-10750 Filed 5-18-20; 8:45 am]

BILLING CODE 3510-DS-P